DEPARTMENT OF COMMERCE

International Trade Administration

[A-570-909]

Certain Steel Nails From the People's Republic of China: Final Results of Antidumping Duty Administrative Review and Final Determination of No Shipments; 2018-2019

AGENCY: Enforcement and Compliance, International Trade Administration, Department of Commerce.

SUMMARY: The Department of Commerce (Commerce) determines that certain steel nails (nails) from the People's Republic of China (China) were sold in the United States at less than normal value (NV) during the period of review (POR) August 1, 2018, through July 31, 2019.

DATES: Applicable June 24, 2021.

FOR FURTHER INFORMATION CONTACT: Benito Ballesteros, AD/CVD Operations, Office V, Enforcement and Compliance, International Trade Administration, U.S. Department of Commerce, 1401 Constitution Avenue NW, Washington, DC 20230; telephone: (202) 482-7425.

SUPPLEMENTARY INFORMATION:

Background

On December 21, 2020, Commerce published the Preliminary Results.¹

¹ See Certain Steel Nails from the People's Republic of China: Preliminary Results of Antidumping Duty Administrative Review, Preliminary Determination of No Shipments, and Partial Rescission; 2018-2019, 85 FR 83054 (December 21, 2020) (Preliminary Results), and accompanying Preliminary Decision Memorandum.

In December 2020 and January 2021, Commerce received comments on the Preliminary Results from Paslode Fasteners (Shanghai) Co., Ltd. (Paslode), a subsidiary of US producer Illinois Tool Works, Inc. (ITW) ² and various separate rate companies and companies that claimed that they had no shipments of subject merchandise during the POR.³ On January 21, 2021, Mid Continent Steel & Wire, Inc. (the petitioner) ⁴ and Tianjin Zhonglian Metals Ware Co., Ltd. (Zhonglian) ⁵ timely filed case briefs. On January 28, 2021, the petitioner,⁶ Paslode,⁷ and Zhonglian ⁸ timely filed rebuttal briefs, and Pioneer et al., submitted comments.⁹ On April 8, 2021, Commerce extended the deadline for the final results by 179 days after the date of publication of the preliminary results, until June 18, 2021.

² See Paslode's Letter, “Certain Steel Nails from China; 11th Administrative Review; Letter Regarding Improper Inclusion of Paslode in Review,” dated December 24, 2020.

³ See Jinghai et al.'s Letter, “Case Brief of Certain Chinese Respondents: Administrative Review of the Antidumping Order on Certain Steel Nails from the People's Republic of China,” dated January 20, 2021 (providing comments on behalf of various separate rate and no shipment companies: Tianjin Jinghai County Hongli Industry & Business Co., Ltd. (a.k.a. Tianjin Jinghai County Hongli Industry and Business Co., Ltd.); Tianjin Jinchi Metal Products Co., Ltd.; Shanghai Yueda Nails Industry Co., Ltd. a.k.a. Shanghai Yueda Nails Co., Ltd.; and Shanxi Tianli Industries Co., Ltd. (collectively, Jinghai et al.)); see also Pioneer et al.'s Letter, “Steel Nails from the People's Republic of China: Letter in Lieu of Case Brief,” dated January 21, 2021 (providing comments on behalf of various separate rate and no shipment companies: Shanxi Pioneer Hardware Industrial Co., Ltd.; SDC International Australia Pty. Ltd; S-Mart (Tianjin) Technology Development Co., Ltd.; and Shanxi Hairui Trade Co., Ltd. (collectively, Pioneer et al.)).

⁴ See Petitioner's Letter, “Certain Steel Nails from the People's Republic of China: Case Brief,” dated January 21, 2021.

⁵ See Zhonglian's Letter, “Certain Steel Nails from the People's Republic of China: Submission of Tianjin Zhonglian Metals Ware Co., Ltd.'s Administrative Case Brief,” dated January 21, 2021.

⁶ See Petitioner's Letter, “Certain Steel Nails from the People's Republic of China: Rebuttal Brief,” dated January 28, 2021.

⁷ See Paslode's Letter, “Certain Steel Nails from China; 11th Administrative Review; Paslode Rebuttal Brief,” dated January 28, 2021.

⁸ See Zhonglian's Letter, “Certain Steel Nails from the People's Republic of China: Submission of Tianjin Zhonglian's Rebuttal Case Brief,” dated January 28, 2021.

⁹ See Pioneer et al.'s Letter, “Steel Nails from the People's Republic of China: Letter in Lieu of Rebuttal Brief,” dated January 28, 2021.

Scope of the Order

The products covered by the order are nails from China. For a complete description of the scope of this order, see the Issues and Decision Memorandum.¹⁰

¹⁰ See Memorandum, “Certain Steel Nails from the People's Republic of China: Issues and Decision Memorandum for the Final Results of the 2018-2019 Antidumping Duty Administrative Review,” dated concurrently with, and hereby adopted by, this notice (Issues and Decision Memorandum).

Analysis of Comments Received

We addressed all issues raised in the case and rebuttal briefs filed by interested parties in the Issues and Decision Memorandum. Attached to this notice, in Appendix I, is a list of the issues which parties raised. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at http://enforcement.trade.gov/frn/index.html.

Changes Since the Preliminary Results

Based on a review of the record and comments received from interested parties, and for the reasons explained in the Issues and Decision Memorandum, we are revising the margin calculation for Zhonglian. Accordingly, for these final results, Commerce updated the rate assigned to the non-selected companies, which is based on the rate for Zhonglian. For a discussion of these changes, see the “Changes Since the Preliminary Results” section of the Issues and Decision Memorandum.

Final Determination of No Shipments

In the Preliminary Results, Commerce preliminarily found that ten companies had no shipments of subject merchandise during the POR: Dezhou Hualude Hardware Products Co., Ltd.; Hebei Minmetals Co., Ltd.; Nanjing Caiqing Hardware Co., Ltd.; Nanjing Yuechang Hardware Co., Ltd.; Shandong Qingyun Hongyi Hardware Products Co., Ltd.; Shanxi Hairu Trade Co., Ltd.; Shanxi Pioneer Hardware Industrial Co., Ltd.; Tag Fasteners Sdn. Bhd.; Tianjin Jinghai County Hongli Industry & Business Co., Ltd.; and Xi'an Metals & Minerals Import & Export Co., Ltd. Following the publication of the Preliminary Results, we received no comments from interested parties regarding these companies, and no party has submitted record evidence which would call our preliminary no-shipment finding into question. Therefore, for these final results, we continue to find that these ten companies had no shipments of subject merchandise during the POR. Consistent with our practice, we will issue appropriate instructions to U.S. Customs and Border Protection (CBP).

Separate Rates

In the Preliminary Results, we determined that nine companies, including the mandatory respondent, met the criteria for separate rate status. We have not received any information since the issuance of the Preliminary Results that provides a basis for reconsidering this preliminary determination. Therefore, Commerce continues to find that these companies are eligible for separate rates for the final results.

Rate for Non-Selected Companies

As noted above, for these final results, the dumping margin for Zhonglian, the sole mandatory respondent, has changed from the Preliminary Results. Accordingly, for the final results, we have assigned Zhonglian's revised margin to the non-selected companies, in accordance with section 735(c)(5)(A) of the Tariff Act of 1930, as amended (the Act).

China-Wide Entity

In the Preliminary Results, we found that 288 companies for which a review was requested had not established eligibility for a separate rate and, thus, we considered them to be part of the China-wide entity.¹¹ With the exception discussed in the Issues and Decision Memorandum (related to Paslode Co., Ltd. and Paslode Fasteners Co., Ltd.),¹² we have not received any information since the issuance of the Preliminary Results that provides a basis for reconsidering this preliminary determination. Therefore, Commerce continues to find that these companies are part of the China-wide entity.¹³

¹¹ See Preliminary Results at Appendix II.

¹² See Issues and Decision Memorandum at Comment 3.

¹³ See Appendix II.

Final Results of Administrative Review

The weighted-average dumping margins for the administrative review are as follows:

¹⁴ This rate is the rate calculated for Zhonglian.

Exporter/producer | Weighted- average dumping margin
Tianjin Zhonglian Metals Ware Co., Ltd | 22.91
Review-Specific Average Rate Applicable to the Following Companies: ¹⁴
Qingdao D&L Group Ltd | 22.91
SDC International Australia Pty. Ltd | 22.91
Shanghai Curvet Hardware Products Co., Ltd | 22.91
Shanghai Yueda Nails Industry Co., Ltd., a.k.a. Shanghai Yueda Nails Co., Ltd | 22.91
Shanxi Tianli Industries Co., Ltd | 22.91
S-Mart (Tianjin) Technology Development Co., Ltd | 22.91
Suntec Industries Co., Ltd | 22.91
Tianjin Jinchi Metal Products Co., Ltd | 22.91

Disclosure

We intend to disclose the calculations performed regarding these final results within five days of the date of publication of this notice to parties in this proceeding in accordance with 19 CFR 351.224(b).

Assessment Rates

Pursuant to section 751(a)(2)(C) of the Act, and 19 CFR 351.212(b), Commerce has determined, and CBP shall assess, antidumping duties on all appropriate entries covered by this review. Consistent with its recent notice,¹⁵ Commerce intends to issue appropriate assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁵ See Notice of Discontinuation of Policy to Issue Liquidation Instructions After 15 Days in Applicable Antidumping and Countervailing Duty Administrative Proceedings, 86 FR 3995 (January 15, 2021).

For Zhonglian, which has a final weighted-average dumping margin that is not zero or de minimis (i.e., less than 0.5 percent), we will calculate customer-specific per-unit duty assessment rates based on the ratio of the total amount of dumping calculated for the examined sales to that customer to the total quantity associated with those sales, in accordance with 19 CFR 351.212(b)(1). We will also calculate ad valorem customer-specific assessment rates with which to determine whether the per-unit assessment rates are de minimis. Where a customer-specific assessment rate is zero or de minimis, we will instruct CBP to liquidate the appropriate entries without regard to antidumping duties.¹⁶

¹⁶ See 19 CFR 351.106(c)(2).

For the non-examined companies granted separate rates, the ad valorem assessment rate will be equal to the rate assigned above in the final results of administrative review. We will instruct CBP to liquidate entries of subject merchandise exported by companies identified as part of the China-wide entity at the China-wide rate.

Pursuant to Commerce's assessment practice, for entries that were not reported in the U.S. sales database submitted by Zhonglian during this review, we will instruct CBP to liquidate such entries at the China-wide entity rate. Furthermore, where we found that an exporter had no shipments of subject merchandise, any suspended entries that entered under that exporter's case number (i.e., at that exporter's cash deposit rate) will be liquidated at the China-wide entity rate.¹⁷

¹⁷ See Non-Market Economy Antidumping Proceedings: Assessment of Antidumping Duties, 76 FR 65694 (October 24, 2011).

Cash Deposit Requirements

The following cash deposit requirements will be effective upon publication of the final results of this administrative review for all shipments of subject merchandise entered, or withdrawn from warehouse, for consumption on or after the publication date, as provided for by section 751(a)(2)(C) of the Act: (1) For the exporters listed above, the cash deposit rate will be the rate established in the final results of review; (2) for previously investigated or reviewed China and non-China exporters not listed above that have separate rates, the cash deposit rate will continue to be the exporter-specific rate published for the most recently completed segment of this proceeding in which they were reviewed; (3) for all China exporters of subject merchandise which have not been found to be entitled to a separate rate, the cash deposit rate will be the China-wide rate of 118.04 percent; and (4) for all non-China exporters of subject merchandise which have not received their own rate, the cash deposit rate will be the rate applicable to the China exporters that supplied that non-China exporter. We also note that entries produced and exported by Paslode Fasteners (Shanghai) Co., Ltd. are excluded from this order, and are not subject to a cash deposit.¹⁸ These cash deposit requirements, when imposed, shall remain in effect until further notice.

¹⁸ See Notice of Antidumping Duty Order: Certain Steel Nails from the People's Republic of China, 73 FR 44961 (August 1, 2008); see also Appendix II.

Notification to Importers

This notice also serves as a final reminder to importers of their responsibility under 19 CFR 351.402(f) to file a certificate regarding the reimbursement of antidumping duties prior to liquidation of the relevant entries during this POR. Failure to comply with this requirement could result in Commerce's presumption that reimbursement of antidumping duties occurred and the subsequent assessment of doubled antidumping duties.

Administrative Protective Orders

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation subject to sanction.

Notification to Interested Parties

We are issuing and publishing these final results of administrative review in accordance with sections 751(a)(1) and 777(i) of the Act.

Dated: June 17, 2021.
Christian Marsh,
Acting Assistant Secretary for Enforcement and Compliance.

Appendix I—List of Topics Discussed in the Issues and Decision Memorandum

I. Summary

II. Background

III. Scope of the Order

IV. Changes Since the Preliminary Results

V. Discussion of the Issues

Comment 1: Selection of the Primary Surrogate Country

Comment 2: Whether to Add Brokerage and Handling (B&H) Expenses to the Mexico Import Values

Comment 3: Whether to Treat Paslode Co., Ltd. and Paslode Fasteners Co., Ltd. as Part of the China-Wide Entity

VI. Recommendation

Appendix II—China-Wide Entity19

¹⁹ We removed Paslode Fasteners (Shanghai) Co., Ltd. from this list because entries produced and exported by this company are excluded. However, in our instructions to CBP, we will direct that merchandise produced by another entity and exported by Paslode Fasteners (Shanghai) Co., Ltd. is subject to the China-wide entity rate. See Comment 3 of the Issues and Decision Memorandum for further discussion. Additionally, we note that “Paslode Fasteners (Shanghai) Co., Ltd.” was referenced as “Paslode Co., Ltd.” and “Paslode Fasteners Co., Ltd.” in this proceeding.

Accurate Metal Machining Co., Ltd.

Air It On Inc.

Alsons Manufactuiring India Llp

Anhui Amigo Imp. & Exp. Co. Ltd.

Anhui Tea Imp. & Exp. Co. Ltd.

Artree (Xiamen) Group Ltd

Asiahan Industrial Trading Ltd.

Astrotech Steels Pvt. Ltd.

Baoding Jieboshun Trading Co., Ltd.

Beijing Camzone Industrial & Trading Co., Ltd.

Beijing Catic Industry Ltd.

Beijing Jinheung Co., Ltd.

Beijing Qin-Li Jeff Trading Co., Ltd.

Beijing Qin-Li Metal Industries Co., Ltd

Bodi Corporation

Bonuts Hardware Logistics

Cana (Rizhao) Hardware Co., Ltd.

Cangzhou Nandagang Guotai Hardware Products Co., Ltd.

Cangzhou Xinqiao International Trade Co., Ltd

Certified Products Taiwan Inc.

Changzhou Kya Trading Co., Ltd.

Chanse Mechatronics Scientech Development (Jiangsu) Inc.

Cheng Ch International Co., Ltd.

Chia Pao Metal Co., Ltd.

China Dinghao Co., Ltd.

China Linyi Global Trade Center Co., Ltd.

China Staple Enterprise (Tianjin) Co., Ltd.

Chinapack Ningbo Imp. & Exp. Co., Ltd.

Chite Enterprises Co., Ltd.

Chonyi International Co., Ltd.

Come Best (Thailand) Co., Ltd.

Continent Link Int'l Limited

Crelux International Co., Ltd.

Daejin Steel Co., Ltd.

De Fasteners Inc.

De Hui Screw Industry Co., Ltd.

Dezhou Xinjiayuan Hardware Products Co., Ltd.

Dingzhou Baota Metal Products Co., Ltd.

Dong E Fuqiang Metal Products Co., Ltd.

Dongguan Dongri Electrical Electric Equipment Co., Ltd.

Dongguan Further Wood Products Co., Ltd.

Eco-Friendly Floor Ltd.

Ejen Brothers Limited

Empac International Ltd.

Everglow Inc.

Faithful Engineering Products Co., Ltd.

Fastenal Asia Pacific Limited

Fastening Care

Fastgrow International Co., Inc.

Finepack Industrial Limited

Foshan Hosontool Development Hardware Co., Ltd.

Foxsemicon Integrated Technology

Fujian Win Win Import and Export Trading Co., Ltd.

GD.CP International Co., Ltd.

Gdcp Richmax International Ltd.

Geekay Wires Limited

Glori-Industry Hong Kong Inc.

Grace China International Co., Ltd.

Guangdong Meite Mechanical Co. Ltd.

Guangdong TC Meite Intelligent Tools Co., Ltd.

Guangzhou Aivy Nails Technology Co.

Guangzhou Noval Medical Co., Ltd.

Guangzhou Xinfeng International Freight Co., Ltd.

Hai Sheng Xin Group Co., Ltd.

Hangzhou G-wire Technology Co., Ltd.

Hangzhou Orient Industry Co., Ltd.

Happy Worth Limited

Hebei Cangzhou New Century Foreign Trade Co., Ltd.

Hebei Jinsidun Trade Co., Ltd.

Hebei Minghao Imp. & Exp. Co., Ltd.

Hengtuo Metal Products Co., Ltd.

Home Value Co., Ltd.

Hong Kong Mu Hong Electronic Business Limited

Hongkong Milley Limited

Hongkong Shengshi Metal Products Co., Ltd.

Hongyi (HK) Hardware Products Co., Ltd.

Huaiyang County Yinfeng Plastic Factory

Huanghua Haixin Hardware Products Co., Ltd.

Huanghua Yingjin Hardware Products

Inmax Industries Sdn. Bhd.

Inmax Sdn. Bhd.

Inno International

J&b Trading Company

Jade Shuttle Enterprise Co., Ltd.

Jau Yeou Industry Co., Ltd.

Jiang Men City Yu Xing Furniture Limited Company

Jiangmen Jianghai District Hengke Plastic Film Packing Factory

Jiangsu General Science Technology Co., Ltd.

Jiangsu Hexon Imp & Exp Co., Ltd.

Jiangsu Holly Corporation

Jiangsu Huaiyin Guex Tools

Jiangsu Inter-China Group Corp.

Jiangsu Soho Honry Imp. and Exp. Co., Ltd.

Jiangsu Vivaturf Co., Limited

Jiashan Lianchuang Plastic & Hardware

Jiaxing TSR Hardware Inc.

Jinhai Hardware Co., Ltd.

Jinheung Steel Corporation

Jinhua Ausen Crafts Co., Ltd

Jinsco International Corp.

Kaierda Display Furniture Limited

Ko's Nail Incorporation

Koram Inc.

Koram Steel Co., Ltd.

Korea Wire Co., Ltd.

Liang Chyuan Ind. Co., Lmt.

Liang Chyuan Industrial Co., Limited.

Liang's Industrial Corp.

Liaocheng Minghui Hardware Products

Linyi FlyingArrow Imp. & Exp. Co. Ltd.

Linyi Royal Trading Co., Ltd

M&M Industries Co., Ltd.

Maanshan Lilai International Trade Co., Ltd.

Max Co., Ltd.

Maxwealth Development Intl Ltd.

Mayer(Hk)limited

Milkyway Chemical Supply Chain Service Co., Ltd.

Ming Cheng Hardware Company Limited

Mingguang Abundant Hardware Products Co., Ltd.

Mingguang Ruifeng Hardware Products Co., Ltd.

Modern Factory For Metal Products

MPROVE Co., Limited

Nailtech Co., Ltd.

Nanjing Duraturf Co., Ltd.

Nanjing Nuochun Hardware Co., Ltd.

Nanjing Tianxingtong Electronic Technology Co., Ltd.

Nanjing Tianyu International Co., Ltd.

Nanjing Toua Hardware & Tools Co., Ltd.

Nanjing Zeejoe International Trade

Nantong Intlevel Trade Co., Ltd.

Natuzzi China Limited

Nielsen Bainbridge LLC

Ningbo Adv. Tools Co., Ltd.

Ningbo Angelstar Trading Co., Ltd.

Ningbo Bright Max Co., Ltd.

Ningbo Fine Hardware Production Co., Ltd.

Ningbo Freewill Imp. & Exp. Co., Ltd.

Ningbo Home-dollar Imp.& Exp. Corp.

Ningbo Langyi Metal Products Co., Ltd.

Ningbo Nd Import & Export Co., Ltd.

Ningbo Otic Import and Export Co.

Ningbo Weifeng Fastener Co., Ltd.

Ningbo Wellpack Packaging Co., Ltd,

Ningbo WePartner Imp. & Exp. Co., Ltd.

Ningbo Yinzhou Angelstar International Trading

Ningbo Zenith Passion Imp. & Exp. Co, Ltd.

Ninghai Rayguang Horsemanship Produducts Co., Ltd.

Niran Vietnam Company Limited

Overseas Distribution Services Inc.

Overseas International Steel Industry

Patek Tool Co., Ltd.

Perfect Seller Co., Ltd.

Potentech (Guangdong) Limited

President Industrial Inc.

Primesource Building Products

Promising Way (Hong Kong) Ltd.

Pro-Team Coil Nail Enterprise Inc.

Qingdao Ant Hardware Manufacturing Co., Ltd.

Qingdao Concord Trading Co., Ltd.

Qingdao D&L Hardware Co., Ltd.

Qingdao Gold Dragon Co., Ltd.

Qingdao Hongyuan Nail Industry Co., Ltd.

Qingdao JCD Machinery Co., Ltd.

Qingdao Jisco Co., Ltd.

Qingdao Meijialucky Industry and Co.

Qingdao MST Industry and Commerce Co., Ltd.

Qingdao Powerful Machinery Co., Ltd.

Qingdao Sunrise Metal Products Co., Ltd.

Qingdao TianHeng Xiang metal Products Co., Ltd

Qingdao Tiger Hardware Co., Ltd.

Qingdao Top Metal Industrial Co., Ltd.

Qingdao Top Steel Industrial Co., Ltd.

Qingdao Uni-Trend International Ltd.

Qingdao YuanYuan Metal Products LLC

Quanzhou Quanxing Hardware Crafts C

Quick Advance Inc.

Quzhou Monsoon Hardware Co., Ltd.

Region Industries Co., Ltd.

Region System Sdn. Bhd.

Rise Time Industrial Ltd.

Ri-Time Group Inc.

Ruifeng Hardware Products Co., Ltd.

Shaanxi Newland Industrial Co.

Shandong Dinglong Imp. & Exp. Co., Ltd.

Shandong Liaocheng Minghua Metal Pvt. Ltd.

Shandong Oriental Cherry Hardware Group Co., Ltd.

Shanghai Cedargreen Imp. & Exp. Co., Ltd.

Shanghai Centro Mechanical & Electrical

Shanghai Haoray International Trade Co., Ltd.

Shanghai Jade Shuttle Hardware Tools Co., Ltd.

Shanghai March Import & Export Co., Ltd.

Shanghai Seti Enterprise Int'l Co., Ltd.

Shanghai Shenda Imp. & Exp. Co., Ltd

Shanghai Sutek Industries Co., Ltd.

Shanghai Television and Electronics Import and Export Co., Ltd.

Shanghai Yiren Machinery Co., Ltd.

Shanghai Yueda Fasteners Co., Ltd.

Shanghai Zoonlion Industrial Co., Limited

Shanghai Zoonlion Industrial Co., Ltd.

Shanxi Easyfix Trade Co., Ltd.

Shanxi Fastener & Hardware Products

Shanxi Xinjintai Hardware Co., Ltd.

Shaoxing Bohui Import and Export Co., Ltd

Shaoxing Chengye Metal Producing Co., Ltd.

Shenzhen Chuangyuan Jiayi Trading Co., Ltd

Shenzhen Fake Trading Co., Ltd.

Shenzhen Jingmai Trade Co., Limited

Shenzhen Xinjintai Hardware Co., Ltd.

Shenzhen Yuantaifan Frame Craft

Sourcing Metrics Ltd.

Sueyi International Ltd.

Sumec Machinery and Electric Co., Ltd.

Suzhou Xingya Nail Co., Ltd.

Taizhou Dajiang Ind. Co., Ltd.

Team Builder Enterprise Ltd.

Test-Rite International Co., Ltd.

Theps International

Tian Heng Xiang Metal Products Co., Ltd.

Tianjin Baisheng Metal Products Co., Ltd.

Tianjin Bluekin Industries Ltd.

Tianjin Coways Metal Products Co., Ltd.

Tianjin Dagang Jingang Nail Factory

Tianjin Evangel Imp. & Exp. Co., Ltd.

Tianjin Fulida Supply Co., Ltd.

Tianjin High Wing International

Tianjin Hongli Qiangsheng Imp. & Exp.

Tianjin Huixinshangmao Co., Ltd.

Tianjin Hweschun Fasteners Manufacturing Co., Ltd.

Tianjin Jin Xin Sheng Long Metal Products Co., Ltd.

Tianjin Jinghai County Hongli Industry and Business Co., Ltd.

Tianjin Jinghai Yicheng Metal Pvt

Tianjin Jinjin Pharmaceutical Factory

Tianjin Jinmao Imp. & Exp. Corp., Ltd.

Tianjin Jinyifeng Hardware Co., Ltd.

Tianjin Jinzhuang Hardware Factory

Tianjin Lianda Group Co., Ltd.

Tianjin Liweitian Metal Technology

Tianjin Tialai Import & Export Company Ltd.

Tianjin Tianhua Environmental Plastics Co., Ltd.

Tianjin Universal Machinery Imp. & Exp. Corp.

Tianjin Yong Sheng Towel Mill

Tianjin Yongye Furniture Co., Ltd.

Tianjin Zhengjun Trade Company Limited

Tianjin Zhonglian Times Technology

Tianjin Zhongsheng Garment Co., Ltd.

Topworks Ltd.

Total Glory Logistics Co., Ltd. (Qingdao)

Trinity Steel Private Limited

Tsugaru Enterprise Co., Ltd.

Ujl Industries Co., Ltd.

Unicorn Fasteners Co., Ltd.

Verko Incorporated

Walkbase Rubber Products Co., Ltd.

Walsoon Trading Co., Ltd.

Weifang Wenhe Pneumatic Tools Co., Ltd.

Wenzhou Yodsn Fluid Equipment Co., Ltd.

Win Fasteners Manufactory (Thailand) Co., Ltd.

Wire Products Manufacturing Co., Ltd.

Wuhu Diamond Metal Products Co., ltd

Wulian Zhanpeng Metals Co., Ltd.

Wuxi Holtrent International Co., Ltd.

Wuxi Yushea Furniture Co., Ltd.

Xiamen Hongju Printing Industry &trade Co., Ltd.

Xuzhou Cip International Group Co, Ltd.

Yiwu Competency Trading Co., Ltd.

Yiwu Kingland Import & Export Co.

Yiwu Taisheng Decoration Materials Limited

Yiwu Yipeng Import & Export Co., Ltd.

Yongchang Metal Product Co., Ltd.

Youngwoo Fasteners Co., Ltd.

Yuyao Dingfeng Engineering Co. Ltd.

Zhanghaiding Hardware Co., Ltd.

Zhangjiagang Lianfeng Metals Products Co., Ltd.

Zhangjiagang Longxiang Industries Co., Ltd.

Zhaoqing Harvest Nails Co., Ltd.

Zhejiang Best Nail Industry Co., Ltd.

Zhejiang Jihengkang (JHK) Door Ind. Co., Ltd.

Zhejiang Rongpeng Imp. & Exp. Co., Ltd

Zhejiang Saiteng New Building Materials Co., Ltd.

Zhejiang Yiwu Yongzhou Imp. & Exp. Co., Ltd.

Zhong Shan Daheng Metal Products Co., Ltd.

Zhong Shan Shen Neng Metal Products Co., Ltd.

Zhucheng Jinming Metal Products Co., Ltd.

Zhucheng Runfang Paper Co., Ltd.

Zhuhai Trillion Trading Co., Ltd

Zon Mon Co., Ltd.

[FR Doc. 2021-13381 Filed 6-23-21; 8:45 am]

BILLING CODE 3510-DS-P